FEDERAL COMMUNICATIONS COMMISSION

47 CFR Part 4

[PS Docket Nos. 21-346, 15-80; ET Docket No. 04-35; FCC 24-5; FR ID 214797]

Resilient Networks; Disruptions to Communications; Correction

AGENCY: Federal Communications Commission.

ACTION: Final rule; correction.

SUMMARY: The Federal Communications Commission published a document in the Federal Register on April 11, 2024, containing the effective and compliance dates for a new rule. While the DATES section at the beginning of the document was correct, Section E of the document, “Timelines for Compliance,” requires a correction.

DATES: Effective April 26, 2024.

FOR FURTHER INFORMATION CONTACT: Scott Cinnamon, Attorney Advisor, 202-418-2319.

SUPPLEMENTARY INFORMATION:

Federal Register Correction

In rule document 2024-07402 at 89 FR 25535 in the issue of April 11, 2024, on page 25541, in the second column, the first sentence of Section E, “Timelines for Compliance,” is corrected to read as follows:

We set a single date for compliance by all subject providers for implementing these rules as the later of 30 days after the FCC publishes notice in the Federal Register that the OMB has completed its review of Paperwork Reduction Act requirements, or November 30, 2024.

Dated: April 17, 2024.
Federal Communications Commission.
Katura Jackson,
Federal Register Liaison Officer, Office of the Secretary.

[FR Doc. 2024-08646 Filed 4-25-24; 8:45 am]

BILLING CODE 6712-01-P